DEPARTMENT OF THE INTERIOR

Fish and Wildlife Service

[FWS-HQ-FAC-2022-N225; FXGO1664091HCC0-FF09D00000-190]

Hunting and Wildlife Conservation Council; Call for Nominations; Extension

AGENCY: Fish and Wildlife Service, Interior.

ACTION: Call for nominations; extension.

SUMMARY: The Secretary of the Interior and the Director of the U.S. Fish and Wildlife Service seek nominations for membership on the Hunting and Wildlife Conservation Council (Council). This is a 15-day extension of the call for nominations published in the Federal Register on February 18, 2022.

DATES: The nomination period announced on February 18, 2022, at 87 FR 9374 is extended. Nominations via email must be date stamped no later than April 1, 2022.

ADDRESSES: Please address nomination letters to Mr. Douglas Hobbs, U.S. Fish and Wildlife Service. You may email nominations to Douglas Hobbs, at doug_hobbs@fws.gov.

FOR FURTHER INFORMATION CONTACT: Douglas Hobbs, at the email address in ADDRESSES, or by telephone at (703) 358-2336. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Secretary of the Interior and the Director of the U.S. Fish and Wildlife Service seek nominations for membership on the Hunting and Wildlife Conservation Council (Council). The Council reports to the Secretary of the Interior and the Secretary of Agriculture to provide recommendations regarding the establishment and implementation of conservation endeavors that benefit wildlife resources; encourage partnership among the public, sporting conservation organizations, and Federal, State, Tribal, and territorial governments; and benefit fair chase recreational hunting and safe recreational shooting sports. On February 18, 2022, the original call for nominations published in the Federal Register (87 FR 9374), with a 30-day nomination period ending March 21, 2022. This notice provides additional time for nominations (see DATES, above). For more information on the Council's duties, member terms, vacancies to fill, the nomination method, and eligibility, see the February 18, 2022, notice (87 FR 9374).

Authority: 5 U.S.C. appendix 2.

Barbara Wainman,
Assistant Director—External Affairs.

[FR Doc. 2022-05651 Filed 3-16-22; 8:45 am]

BILLING CODE 4333-15-P